DEPARTMENT OF HOUSING AND URBAN DEVELOPMENT

[Docket No. FR-5300-FA-28]

Announcement of Funding Awards for Fiscal Year 2009; Hispanic-Serving Institutions Assisting Communities Program

AGENCY: Office of the Assistant Secretary for Policy Development and Research, HUD.

ACTION: Announcement of funding awards.

SUMMARY: In accordance with Section 102(a)(4)(C) of the Department of Housing and Urban Development (HUD) Reform Act of 1989, this document notifies the public of funding awards for Fiscal Year 2009 Hispanic-Serving Institutions Assisting Communities (HSIAC) Program. The purpose of this document is to announce the names, addresses and the amount awarded to the winners to be used to help Hispanic-Serving Institutions of Higher Education to expand their role and effectiveness in addressing community development needs in their localities, including neighborhood revitalization, housing and economic development, principally for persons of low- and moderate-income consistent with the purposes of Title I of the Housing and Community Development Act of 1974 as amended.

FOR FURTHER INFORMATION CONTACT: Susan Brunson, Office of University Partnerships, U.S. Department of Housing and Urban Development, Room 8226, 451 Seventh Street, SW., Washington, DC 20410, Telephone (202) 402-3852. To provide service for persons who are hearing-or-speech-impaired, this number may be reached via TTY by dialing the Federal Information Relay Service on (800) 877-8339 or (202) 708-1455. (Telephone numbers, other than “800” TTY numbers, are not toll free.)

SUPPLEMENTARY INFORMATION: The Hispanic-Serving Institutions Assisting Communities Program was approved by Congress under the Appropriations Act, 2009 (Pub. L. 111-8, approved March 11, 2009) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On July 8, 2009, a Notice of Funding Availability (NOFA) for this program was posted on Grant.gov (Attachment 1) announcing the availability of approximately $6 million for funding grants under this program. The maximum amount an applicant can be awarded is $600,000 for a three-year (36 months) grant performance period. The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org.

List of Awardees for Grant Assistance Under the FY 2009 Hispanic-Serving Institutions Assisting Communities Program Funding Competition, by Institution, Address and Grant Amount

Region IV

1. Conservatory of Music of Puerto Rico, Mara del Carmen, Conservatory of Music of Puerto Rico, 951 Ave Ponce de Le Pda 15 Miramar, San Juan, PR 00907-3373. Grant: $599,398.

2. SUAGM, Inc. dba Universidad del Turabo, Besty Vidal, SUAGM, Inc. dba Universidad del Turabo, State Road #189, KM 3.3, PO Box 3033, Gurabo, PR 00778-3030. Grant: $528,136.

Region V

3. Elgin Community College, Susan VanWeelden, Elgin Community College, 1700 Spartan Drive, Elgin, IL 60123. Grant: $600,000.

Region VI

4. Regents of NMSU-Dona Ana Community College, John Walker, Regents of NMSU-Dona Ana Community College, 3400 S. Espina, PO Box 30001, MSC 3DA, Las Cruces, NM 88003-0001. Grant: $600,000.

5. El Paso County Community College District, Alfred Lawrence, El Paso County Community College District, PO Box 20500, El Paso, TX 79998. Grant: $600,000.

Region VIII

6. Adams State College, Mary Hoffman, Adam State College, 208 Edgemont Street, Alamosa, CO 81102. Grant: $599,935.

Region IX

7. University Corporation at Monterey Bay, Seth Pollack, University Corporation at Monterey Bay, 100 Campus Center, Alumni & Visitor Center, Seaside, CA 93955. Grant: $599,298.

8. Woodbury University, Peter Arnold, Woodbury University, 7500 Glenoaks Boulevard, Burbank, CA 91510-7846. Grant: $600,000.

Region X

9. Heritage University, Ricardo Valdez, Heritage University, 3240 Fort Road, Toppenish, WA 98948. Grant: $599,975.

10. Columbia Basin College, Brett Riley, Columbia Basin College, 2600 N. 20th Avenue, Pasco, WA 99301. Grant: $600,000.

Dated: September 4, 2009.
Raphael W. Bostic,
Assistant Secretary for Policy Development and Research.

[FR Doc. E9-23843 Filed 10-1-09; 8:45 am]

BILLING CODE 4210-67-P